DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment Standards Administration, Wage and Hour Division, is soliciting comments concerning the proposed collection “Application for Authority for an Institution of Higher Education to Employ Its Full-Time Students at Subminimum Wages Under Regulations 29 CFR part 529 (WH-201).” A copy of the proposed information collection request can be obtained by contacting the office listed below in the addressee section of this Notice.

DATES: Written comments must be submitted to the office listed in the addressee section below on or before September 6, 2002.

ADDRESSES: Ms. Patricia A. Forkel, U.S. Department of Labor, 200 Constitution Ave., NW., Room S-3201, Washington, DC 20210, telephone (202) 693-0339, fax (202) 693-1451, e-mail pforkel@fenix2.dol-esa.gov. Please use only one method of transmission for comments (mail, fax, or e-mail).

SUPPLEMENTARY INFORMATION:

I. Background

Section 14(b)(3) of the Fair Labor Standards Act (FLSA) authorizes the Secretary of Labor to provide certificates authorizing the employment of full-time students at subminimum wages in institutions of higher education to the extent necessary to prevent curtailment of opportunities for employment. This section also sets limits on such employment and protects the full-time employment opportunities of other workers. Th WH-201 is used by employers seeking such authorization. This information collection is currently approved by the Office of Management and Budget (OMB) for use through January 2003.

II. Review Focus

The Department of Labor is particularly interested in comments which:

• Evaluate whether the proposed collection of information is necessary for the proper performance of the functions of the agency, including whether the information will have practical utility;

• evaluate the accuracy of the agency's estimate of the burden of the proposed collection of information, including the validity of the methodology and assumptions used;

• enhance the quality, utility and clarity of the information to be collected; and

• minimize the burden of the collection of information on those who are to respond, including through the use of appropriate automated, electronic, mechanical, or other technological collection techniques or other forms of information technology, e.g., permitting electronic submissions of responses.

III. Current Actions

The Department of Labor seeks an approval of the revision of the information collection instrument to simplify the application process for employers. The instructions have been clarified and employers are no longer requested to provide the information regarding the number of students they expect to employ at subminimum wages. The revised form will allow the Wage and Hour Division (WHD) to take advantage of new report writing capabilities available to the WHD through its automated Certificate Processing System (CPS). By standardizing the information requested about the number of full-time students being employed by employers who request certification, the CPS will generate accurate reports concerning the employment of all full-time students at subminimum wages. The reformatting of the WH-201 provides sufficient space to allow the CPS to generate preprinted renewal applications for employers prior to the expiration of each certificate. These renewal applications will be sent to employers sixty days before the expiration date of their current certificates.

Type of Review: Revision.

Agency: Employment Standards Administration.

Title: Application for Authority for an Institution of Higher Education to Employ Its Full-Time Students at Subminimum Wages Under Regulations Part 519.

OMB Number: 1215-0080.

Agency Number: WH-201.

Affected Public: Businesses or other for-profit; Individuals or households; Not-for-profit institutions.

Total Respondents: 15.

Total Responses: 15.

Burden Hours per Response (Reporting): 15 to 30 minutes.

Burden Hours Per Response: (Recordkeeping): 1 minute.

Total Burden Hours: (Reporting and Recordkeeping): 5.

Total Burden Cost: (capital/startup): $0.

Total Burden Cost: (operation/maintenance): $5.55.

Comments submitted in response to this notice will be summarized and/or included in the request for Office of Management and Budget approval of the information collection request; they will also become a matter of public record.

Dated: July 2, 2002.
Margaret J. Sherrill,
Chief, Branch of Management Review and Internal Control, Division of Financial Management, Office of Management, Administration and Planning, Employment Standards Administration.

[FR Doc. 02-16977 Filed 7-5-02; 8:45 am]

BILLING CODE 4510-27-P